DEPARTMENT OF COMMERCE

National Oceanic and Atmospheric Administration

50 CFR Part 679

[I.D. 053101F]

Fisheries of the Exclusive Economic Zone Off Alaska; Bycatch Rate Standards for the Second Half of 2001

AGENCY: National Marine Fisheries Service (NMFS), National Oceanic and Atmospheric Administration (NOAA), Commerce.

ACTION: Pacific halibut and red king crab bycatch rate standards; request for comments.

SUMMARY: NMFS announces Pacific halibut and red king crab bycatch rate standards for the second half of 2001. Publication of these bycatch rate standards is required by regulations implementing the vessel incentive program. This action is necessary to implement the bycatch rate standards for trawl vessel operators who participate in the Alaska groundfish trawl fisheries. The intent of this action is to reduce prohibited species bycatch rates and promote conservation of groundfish and other fishery resources.

DATES: Effective 1201 hours, Alaska local time (A.l.t.), July 1, 2001, through 2400 hours, A.l.t., December 31, 2001. Comments on this action must be received no later than 4:30 p.m., A.l.t., July 27, 2001.

ADDRESSES: Comments may be submitted to Sue Salveson, Assistant Regional Administrator, Sustainable Fisheries Division, Alaska Region, NMFS, P.O. Box 21668, Juneau, AK 99802-1668, Attn: Lori Gravel. Comments also may be sent via facsimile (fax) to 907-586-7465. Comments will not be accepted if submitted via e-mail or Internet. Courier or hand delivery of comments may be made to NMFS in the Federal Building, Room 453, Juneau, AK 99801.

FOR FURTHER INFORMATION CONTACT: Mary Furuness, 907-586-7228, fax 907-586-7465, e-mail mary.furuness@noaa.gov.

SUPPLEMENTARY INFORMATION: The domestic groundfish fisheries in the exclusive economic zone of the Bering Sea and Aleutian Islands management area (BSAI) and Gulf of Alaska (GOA) are managed by NMFS according to the Fishery Management Plan for the Groundfish Fishery of the Bering Sea and Aleutian Islands Area and the Fishery Management Plan for Groundfish of the Gulf of Alaska (FMPs). The FMPs were prepared by the North Pacific Fishery Management Council (Council) under the authority of the Magnuson-Stevens Fishery Conservation and Management Act and are implemented by regulations governing the U.S. groundfish fisheries at 50 CFR part 679.

Regulations at § 679.21(f) implement a vessel incentive program to reduce halibut and red king crab bycatch rates in the groundfish trawl fisheries. Under the incentive program, operators of trawl vessels may not exceed Pacific halibut bycatch rate standards specified for the BSAI and GOA midwater pollock and “other trawl” fisheries, and the BSAI yellowfin sole and “bottom pollock” fisheries. Vessel operators also may not exceed red king crab bycatch standards specified for the BSAI yellowfin sole and “other trawl” fisheries in Bycatch Limitation Zone 1 (defined in § 679.2). The fisheries included under the incentive program are defined in regulations at § 679.21(f)(2).

Regulations at § 679.21(f)(3) require that halibut and red king crab bycatch rate standards for each fishery included under the incentive program be published in the Federal Register. The standards are in effect for specified seasons within the 6-month periods of January 1 through June 30, and July 1 through December 31. For purposes of calculating vessel bycatch rates under the incentive program, 2001 fishing months were specified in the Federal Register on January 16, 2001 (66 FR 3501).

Halibut and red king crab bycatch rate standards for the first half of 2001 also were published in the Federal Register (66 FR 3501, January 16, 2001). As required by § 679.21(f)(3) and (4), the Administrator of the Alaska Region, NMFS (Regional Administrator), has established the bycatch rate standards for the second half of 2001 (July 1 through December 31). These standards were endorsed by the Council at its April 2001 meeting and are set out in Table 1. As required by § 679.21(f)(4), bycatch rate standards are based on the following information:

(A) Previous years' average observed bycatch rates;

(B) Immediately preceding season's average observed bycatch rates;

(C) The bycatch allowances and associated fishery closures specified under § 679.21(d) and (e);

(D) Anticipated groundfish harvests;

(E) Anticipated seasonal distribution of fishing effort for groundfish; and

(F) Other information and criteria deemed relevant by the Regional Administrator.

TABLE 1—BYCATCH RATE STANDARDS BY FISHERY FOR THE SECOND HALF OF 2001 FOR PURPOSES OF THE VESSEL INCENTIVE PROGRAM IN THE BSAI AND GOA
Fishery | 2001 Bycatch Rate Standard
Halibut bycatch rate standards (kilogram (kg) of halibut/metric ton (mt) of groundfish catch)
BSAI Midwater pollock | 1.0
BSAI Bottom pollock | 5.0
BSAI Yellowfin sole | 5.0
BSAI Other trawl | 30.0
GOA Midwater pollock | 1.0
GOA Other trawl | 40.0
Zone 1 red king crab bycatch rate standards (number of crab/mt of groundfish catch)
BSAI yellowfin sole | 2.5
BSAI Other trawl | 2.5

Bycatch Rate Standards for Pacific Halibut

The halibut bycatch rate standards for the second half of 2001 trawl fisheries are unchanged from those implemented for the second half of 2000. The Regional Administrator based standards for the second half of 2001 on anticipated seasonal fishing effort for groundfish species and on 1997-2000 halibut bycatch rates observed in the trawl fisheries included under the incentive program. Along with bycatch rate standards, the industry is exploring opportunities under fishery cooperatives and other voluntarily arrangements to control bycatch and optimize the amount of groundfish harvested under halibut and crab bycatch limits. Under § 679.50(k), vessel-specific prohibited species bycatch rates from observer data are published weekly on the NMFS, Alaska Region website (www.fakr.noaa.gov).

In determining these bycatch rate standards, the Regional Administrator considered the annual and seasonal bycatch specifications for the BSAI and the GOA trawl fisheries (66 FR 7276, January 22, 2001). He further recognized that the Council had requested NMFS to implement by emergency interim rule a delay in the second season opening date for the GOA inshore and offshore Pacific cod fisheries from June 10 to September 1. This rulemaking was published in the Federal Register on June 13, 2001 (66 FR 31845). The GOA shallow-water and deep-water trawl fishery species complexes are closed until July 1, 2001. In the BSAI, the rockfish, yellowfin sole, and rock sole/flathead sole/other flatfish fishery categories will open or reopen on July 1 when seasonal apportionments of halibut bycatch allowances specified for these fisheries become available. The BSAI Pacific cod trawl fishery is open for catcher vessels and catcher processors. The Regional Administrator also considered the June 10 opening date of the 2001 Bering Sea pollock “C/D” season (§ 679.23(e)(2)) and the Gulf of Alaska “C” and “D” season pollock fisheries on August 20 and October 1, respectively (§ 679.23(d)(2)). The Regional Administrator acknowledged that the 2001 BSAI and GOA trawl fisheries for pollock and Pacific cod are closed November 1 for the remainder of the year as a protection measure for the endangered Western population of Steller sea lions.

The halibut bycatch rate standards for the BSAI yellowfin sole and “bottom pollock” trawl fisheries are each set at 5 kilograms (kg) of halibut per metric ton (mt) of groundfish. The BSAI yellowfin sole fishery has experienced undesirably high bycatch rates that NMFS and the Council wish to reduce through existing incentives. The American Fisheries Act (AFA) cooperatives should help participating vessels maintain overall bycatch rates of halibut in the yellowfin sole fishery to a minimal level so that the amount of groundfish harvested may be optimized under the AFA prohibited species catch sideboard provisions. The average halibut bycatch rate for the 2000 third and fourth calendar quarter fisheries was equal to 13 and 11 kg halibut/mt groundfish, respectively. These rates are lower than those in 1999. The prohibition on the use of nonpelagic trawl gear has reduced the number of hauls assigned to the BSAI “bottom pollock” fishery and the bycatch rates are lower. Assignment to a fishery for purposes of the vessel incentive program is based on catch composition instead of gear type; this allows a vessel using pelagic trawl gear to be assigned to the BSAI bottom pollock fishery defined at 50 CFR 679.21(f)(2). The average halibut bycatch rate for the 2000 third and fourth calendar quarter pollock fisheries was equal to 0.68 and 1.95 kg halibut/mt groundfish, respectively.

The halibut bycatch rate standard for the BSAI and GOA midwater pollock fisheries (1 kg of halibut/mt of groundfish) is higher than the bycatch rates normally experienced by vessels participating in these fisheries, except for the third quarter of 2000 in the GOA. This standard is intended to encourage vessel operators to maintain off-bottom trawl operations and limit further bycatch of halibut in the pollock fishery. One factor that may have contributed to the 1.91 kg halibut/mt groundfish rate for the third quarter of 2000 in the GOA was the change in the spatial distribution of the pollock fishery because of the court-ordered injunction on fishing for groundfish with trawl gear in Steller sea lion critical habitat.

The considerations that support the bycatch rate standards for the “other trawl” fisheries are unchanged from previous years and are discussed in the Federal Register publications of 1995 bycatch rate standards (60 FR 2905, January 12, 1995, and 60 FR 27425, May 24, 1995). A bycatch rate standard of 30 kg halibut/mt of groundfish is established for the BSAI “other trawl” fishery. This standard has remained unchanged since 1992. Observer data from the 2000 BSAI “other trawl” fishery show third and fourth quarter halibut bycatch rates of 10 and 5 kg of halibut/mt of groundfish. The first quarter rate from the 2001 BSAI “other trawl” fishery was 11 kg of halibut/mt of groundfish. A bycatch rate standard of 40 kg of halibut/mt of groundfish is established for the GOA “other trawl” fishery, which is unchanged since 1994. At times, quarterly bycatch rates have exceeded the bycatch rate standards, but these situations usually represent limited fishing effort in the second and fourth quarters. Observer data collected from the 2000 GOA “other trawl” fishery show average third and fourth quarter halibut bycatch rates of 23 and 46 kg of halibut/mt of groundfish, respectively. The first quarter rate from 2001 was 14 kg of halibut/mt of groundfish.

Bycatch Rate Standards for Red King Crab

The red king crab bycatch rate standard for the yellowfin sole and “other trawl” fisheries in Zone 1 of the Bering Sea subarea is 2.5 crab/mt of groundfish during the second half of 2001. This standard has remained unchanged since 1992. Through April 14, 2001, the rock sole/flathead sole/other flatfish fishery category have taken 34 percent of its annual red king crab bycatch allowance including the Red King Crab Savings Subarea bycatch limit. The Pacific cod and yellowfin sole fisheries have taken 13 percent and 33 percent, respectively, of their bycatch allowances. The Regional Administrator anticipates that the non-pelagic trawl gear closure of the Red King Crab Savings Area in Zone 1 will continue to result in low red king crab bycatch rates for the remainder of the year and is maintaining the 2.5 red king crab/mt of groundfish bycatch rate standard.

The Regional Administrator has determined that the bycatch rate standards set forth in Table 1 for the second half of 2001 are appropriately based on the information and considerations necessary for such determinations under § 679.21(f). These bycatch rate standards may be revised and published in the Federal Register when deemed appropriate by the Regional Administrator, pending his consideration of the information set forth at § 679.21(f)(4).

Classification

NMFS finds that the prevention of excessive prohibited species bycatch rates constitutes good cause to waive the requirement for prior notice and comment period pursuant to 5 U.S.C. 553(b)(B) as such procedures are contrary to the public interest. Because the halibut and red king crab bycatch rate standards for the second half of 2001 must be effective by July 1, 2001, when the bycatch rate standards for the first half of 2001 expire, NMFS finds for good cause that the implementation of this action cannot be delayed for 30 days. Accordingly, under 5 U.S.C. 553(d), a delay in the effective date is hereby waived.

This action is taken under 50 CFR 679.21(f) and is exempt from OMB review under Executive Order 12866.

Authority: 16 U.S.C. 773 et seq., 1801 et seq. and 3631 et seq.

Dated: June 21, 2001.
Bruce C. Morehead,
Acting Director, Office of Sustainable Fisheries, National Marine Fisheries Service.

[FR Doc. 01-16173 Filed 6-26-01; 8:45 am]

BILLING CODE 3510-22-S